SECURITIES AND EXCHANGE COMMISSION

[File No. 500-1]

Auriga Laboratories, Inc., Curon Medical, Inc., Goldstate Corp., OneWorld Systems, Inc., and PracticeXpert, Inc.; Order of Suspension of Trading

August 17, 2011.

It appears to the Securities and Exchange Commission that there is a lack of current and accurate information concerning the securities of Auriga Laboratories, Inc. because it has not filed any periodic reports since the period ended March 31, 2008.

It appears to the Securities and Exchange Commission that there is a lack of current and accurate information concerning the securities of Curon Medical, Inc. because it has not filed any periodic reports since the period ended June 30, 2006.

It appears to the Securities and Exchange Commission that there is a lack of current and accurate information concerning the securities of Goldstate Corp. because it has not filed any periodic reports since the period ended March 31, 2002.

It appears to the Securities and Exchange Commission that there is a lack of current and accurate information concerning the securities of OneWorld Systems, Inc. because it has not filed any periodic reports since the period ended December 31, 1999.

It appears to the Securities and Exchange Commission that there is a lack of current and accurate information concerning the securities of PracticeXpert, Inc. because it has not filed any periodic reports since the period ended June 30, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 17, 2011, through 11:59 p.m. EDT on August 30, 2011.

By the Commission.
Elizabeth M. Murphy,
Secretary.

[FR Doc. 2011-21336 Filed 8-17-11; 4:15 pm]

BILLING CODE 8011-01-P